DEPARTMENT OF HOMELAND SECURITY

Transportation Security Administration

[Docket No. TSA-2006-26514]

Extension of Agency Information Collection Activity Under OMB Review: Rail Transportation Security

Correction

In notice document 2014-19461 appearing on page 48754 in the issue of Monday, August 18, 2014, make the following correction:

On page 48754, in the second column, in the DATES section, in the first through third lines, “[Insert date 30 days after date of publication in the Federal Register]” should read “September 17, 2014”.

[FR Doc. C1-2014-19461 Filed 8-21-14; 8:45 am]

BILLING CODE 1505-01-D